DEPARTMENT OF TRANSPORTATION

Federal Aviation Administration

Notice of Intent To Rule on a Land Release Request To Sell On-Airport Property Conveyed by the United States of America Through a Surplus Property Act and Remove It From Airport Dedicated Use at the New Castle Airport (ILG), New Castle, DE

AGENCY: Federal Aviation Administration (FAA), DOT.

ACTION: Notice of release request to sell on-airport property conveyed through a Surplus Property Act and remove it from dedicated use.

SUMMARY: The FAA is requesting public comment on the Delaware River and Bay Authority's proposed land release and sale of 2.94 acres of airport property at the New Castle County Airport in Wilmington, Delaware. The subject property was conveyed by the United States of America through a Surplus Property Act instrument of transfer in 1949. In accordance with Federal regulations, this notice is required to be published in the Federal Register 30 days before the FAA can approve the sale of this property.

DATES: Comments must be received on or before March 2, 2023.

ADDRESSES: Comments on this application may be emailed or delivered to the following address:

Greg Suchanoff, Senior Project Engineer III, New Castle County Airport, 2162 New Castle Ave., New Castle, DE 19720, (302) 571-6492

and at the FAA Harrisburg Airports District Office:

Rick Harner, Manager, Harrisburg Airports District Office, 3905 Hartzdale Dr., Suite 508, Camp Hill, PA 17011, (717) 730-2830.

FOR FURTHER INFORMATION CONTACT: Paul Higgins, Project Manager, Harrisburg Airports District Office, 717-730-2843, location listed above. The request to release airport property may be reviewed in person at this same location.

SUPPLEMENTARY INFORMATION: The Delaware River and Bay Authority, operating consistent with the operating agreement with New Castle County (owner of property) is proposing the land release and sale of 2.94 acres of airport property at the New Castle County Airport in Wilmington, Delaware. The 2.94 acre subject parcel includes a 26,783 square foot office building, and approximately 4,800 square yards of vehicle parking, with the remaining area comprised primarily of mowed lawn. The parcel is not currently required or anticipated to be required for aeronautical use. The subject parcel is bounded as follows:

All that certain tract, piece or parcel of land situate 12 Penn's Way, New Castle Hundred, New Castle County, Delaware and shown on a plan prepared by VanDemark & Lynch, Inc., Engineers, Planners and Surveyors, Wilmington, Delaware, dated January 6, 2020, entitled “Exhibit Plan, 12 Penn's Way”, File No. 23599.35-EXHIB-01 and being more particularly bounded and described as follows, to wit:

Beginning at an iron pin found, a southerly corner for land now or formerly of the Delaware River & Bay Authority (Deed Record 2090, Page 252) on the northeasterly side of Penn's Way (a 60 foot wide public road), said point being measured along the northeasterly and easterly sides of said Penn's Way, the three (3) following described courses and distances from the southwesterly end of a corner cut-off joining the southerly side of Commons Boulevard (a 110 foot wide public road) with said easterly side of Penn's Way:

1. South 06°04′44″ East, 108.30 feet to a point of curvature;

2. Southeasterly, by a curve to the left having a radius of 242.84 feet, an arc length of 192.59 feet to a point of tangency, said point being distant by a chord of South 28°47′56″ East, 187.58 feet from the last described point; and

3. South 51°31′08″ East, 484.38 feet to the Point of Beginning;

Thence, from the said point of Beginning, along southeasterly, southwesterly and northwesterly lines for said land now or formerly of the Delaware River & Bay Authority (Deed Record 2090, Page 252), the three (3) following described courses and distances:

1. North 38°23′27″ East, 373.10 feet to a point;

2. South 51°36′33″ East, 345.90 feet to a bent iron pin found; and

3. South 38°23′27″ West, 347.43 feet to a bent iron pin found on said northeasterly side of Penn's Way;

Thence along said northeasterly side of Penn's Way, the three (3) following described courses and distances:

Northwesterly, by a curve to the right having a radius of 242.83 feet, an arc length of 113.87 feet to a point of tangency, said point being distant by a chord of North 64°57′10″ West, 112.83 feet from the last described point; and

North 51°31′08″ West, 236.11 feet to the point and place of Beginning. Containing within said metes and bounds, 2.94 acres of land, being the same, more or less.

The proposed action consists of the land release for sale of Tax Parcel ID #10-018.00-006 (the PARCEL) from Wilmington/New Castle County Airport (ILG) ownership. The existing office space on the parcel is currently vacant. The interested buyer intends to use existing office building and parking area as a pandemic response center for the Delaware Air National Guard which would be considered a non-aeronautical use. No exterior physical alternations to the subject parcel are currently proposed. The parcel is located on the on the northwest portion of ILG. Any person may inspect the request by appointment at the FAA office address listed above. Interested persons are invited to comment on the proposed release. All comments will be considered by the FAA to the extent practicable.

Issued in Camp Hill, Pennsylvania, January 31, 2023.
Rick Harner,
Manager, Harrisburg Airports District Office.

[FR Doc. 2023-02478 Filed 2-6-23; 8:45 am]

BILLING CODE 4910-13-P